DEPARTMENT OF ENERGY

Federal Energy Regulatory Commission

Notice of Electric Quarterly Report Users Group Meeting

| Docket Nos.
Electric Quarterly Report User Group Meeting | AD18-4-000
Filing Requirements for Electric Utility Service Agreements | RM01-8-000
Electricity Market Transparency Provisions of Section 220 of the Federal Power Act | RM10-12-000
Revisions to Electric Quarterly Report Filing Process | RM12-3-000
Electric Quarterly Reports | ER02-2001-000

On October 17, 2017, the Federal Energy Regulatory Commission (Commission) issued a notice that Commission staff will hold an Electric Quarterly Report (EQR) Users Group meeting on December 5, 2017. The meeting will take place from 1:00 p.m. to 5:00 p.m. (EST) in the Commission Meeting Room at 888 First Street NE., Washington, DC 20426. All interested persons are invited to attend. For those unable to attend in person, access to the meeting will be available via webcast.

Staff is hereby supplementing the October 17, 2017, notice with the agenda for discussion. During the meeting, Commission staff and the EQR users will discuss potential improvements to the EQR program and EQR filing process, including: (1) Progress since the last user group meeting; (2) EQR resources and Web site updates; (3) EQR validations and error messages; and (4) use of “Other” as a Product Name and Product Type Name. Please note that matters pending before the Commission and subject to ex parte limitations cannot be discussed at this meeting. An agenda of the meeting is attached.

Those interested in participating in the discussion are encouraged to attend in person. All interested persons (whether attending in person or via webcast) are asked to register online at http://www.ferc.gov/whats-new/registration/12-05-17-form.asp. There is no registration fee. Anyone with Internet access can listen to the meeting by navigating to https://www.ferc.gov/EventCalendar/EventsList.aspx?View=listview for FERC Calendar of Events, locating the EQR Users Group Meeting on the Calendar, and clicking on the link to the webcast.

The webcast will allow persons to view and listen to the meeting. Questions during the meeting can be sent to EQRUsersGroup@ferc.gov.

Commission conferences are accessible under section 508 of the Rehabilitation Act of 1973. For accessibility accommodations, please send an email to accessibility@ferc.gov or call toll free 1-866-208-3372 (voice) or 202-208-1659 (TTY), or send a FAX to 202-208-2106 with the required accommodations.

To increase administrative efficiency, issuances related to future EQR user group meetings will not be assigned to Docket Nos. RM01-8-000, RM10-12-000, RM12-3-000 and ER02-2001-000. For more information about the EQR Users Group meeting, please contact Jeff Sanders of the Commission's Office of Enforcement at (202) 502-6455, or send an email to EQRUsersGroup@ferc.gov.

Dated: November 21, 2017.
Kimberly D. Bose,
Secretary.

[FR Doc. 2017-25726 Filed 11-28-17; 8:45 am]

BILLING CODE 6717-01-P